COMMODITY FUTURES TRADING COMMISSION

Guidelines for Ensuring and Maximizing the Quality, Objectivity, Utility, and Integrity of Information Disseminated by the Commodity Futures Trading Commission

AGENCY: Commodity Futures Trading Commission.

ACTION: Notice of extension of comment period.

SUMMARY: The Commodity Futures Trading Commission (CFTC or agency) in accordance with Section 515 of the Treasury and General Government Appropriations Act for Fiscal Year 2001 (Public Law 106-554; H.R. 5658) as implemented by the final guidelines published by the Office of Management and Budget, Executive Office of the President, on September 28, 2001 (66 FR 49718) and on January 3, 2002 (67 FR 369) (and reprinted in their entirety on February 22, 2002, 67 FR 8452), “Guidelines for Ensuring and Maximizing the Quality, Objectivity, Utility, and Integrity of Information Disseminated by Federal Agencies,” posted its draft guidelines on the CFTC website, http://www.cftc.gov/ on April 22, 2002 (see 67 FR 19558, April 22, 2002).

DATES: Comment period extended to July 19, 2002.

FOR FURTHER INFORMATION: Comments should be sent by email to mailto:informationquality@cftc.gov or by FAX to Information Quality at (202) 418-5541.

SUPPLEMENTARY INFORMATION: In response to requests to extend the comment period in order to provide additional time for review of the draft guidelines, the Commission extended the comment period from June 1, 2002 to July 19, 2002.

Dated: June 11, 2002.
Jean A. Webb,
Secretary of the Commission.

[FR Doc. 02-15179 Filed 6-14-02; 8:45 am]

BILLING CODE 6351-01-M